DEPARTMENT OF HEALTH AND HUMAN SERVICES

National Institutes of Health

Proposed Collection; Comment Request; Outcome Evaluation of NCI's Activities To Promote Research Collaboration (APRC) Program

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: Outcome Evaluation of NCI's Activities to Promote Research Collaboration (APRC) Program.

Type of Information Collection Request: NEW.

Need and Use of Information Collection: The purpose of this study is to systematically assess the extent to which NCI's Activities to Promote Research Collaborations (APRC) program has been successful in accomplishing its intended goals of (1) capacity building and (2) generating innovative advances. The innovative advances outcome analysis will answer the question of whether APRC projects resulted in promising, novel concepts and advances in cancer research. The capacity building outcome analysis will determine whether participation in the APRC program has enabled the program participants to successfully integrate interdisciplinary approaches in their scientific investigations and enhanced their ability to pursue other collaborative research activities. The study will involve interviewing former APRC-funded researchers. The evaluation results will provide DCB with the information to make quality improvements to the APRC program and enhance program performance in generating significant outcomes. It will also strengthen our understanding of the value of collaborative and interdisciplinary research and inform NCI's approach to supporting and encouraging scientific collaboration among researchers from multiple disciplines in the future.

Frequency of Response: One time.

Affected Public: Individuals; scientific and research communities.

Type of Respondents: Researchers. The annual reporting burden is as follows:

Estimated Number of Respondents: 250;

Estimated Number of Responses per Respondent: 1;

Average Burden Hours per Response: .5; and

Estimated Total Annual Burden Hours Requested: 125.

The annualized cost to respondents is estimated at: $4034. There are no Capital Costs, Operating Costs, and/or Maintenance Costs to report.

Type of respondents | Estimated annual number of respondents | Estimated number of responses per respondent | Average burden hours per response | Estimated total annual burden hours requested
Researchers | 250 | 1 | 0.5 | 125

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Ms. Kelly Kim, Project Officer, DNA and Chromosome Aberrations Branch, DCB, NCI, NIH, 6130 Executive Blvd., Room 5025, Rockville, MD 20892, or call non-toll-free number (301) 496-5473 or e-mail your request, including your address to: kimke@mail.nih.gov.

Comments Due Date: Comments regarding this information collection are best assured of having their full effect if received within 60-days of the date of this publication.

Dated: March 3, 2006.
Rachelle Ragland-Greene,
NCI Project Clearance Liaison, National Institutes of Health.

[FR Doc. E6-3537 Filed 3-10-06; 8:45 am]

BILLING CODE 4101-01-P